DEPARTMENT OF THE INTERIOR

Bureau of Ocean Energy Management

[OMB Control Number 1010-0106; Docket ID: BOEM-2017-0016]

Agency Information Collection Activities; Submission to the Office of Management and Budget for Review and Approval; Oil Spill Financial Responsibility

AGENCY: Bureau of Ocean Energy Management, Interior.

ACTION: Notice of information collection; request for comment.

SUMMARY: In accordance with the Paperwork Reduction Act of 1995, the Bureau of Ocean Energy Management (BOEM) is proposing to renew an information collection request with revisions.

DATES: Interested persons are invited to submit comments on or before December 23, 2019.

ADDRESSES: Send written comments on this information collection request (ICR) to the Office of Management and Budget's Desk Officer for the Department of the Interior by email at OIRA_Submission@omb.eop.gov; or via facsimile to 202-395-5806. Please provide a copy of your comments to the BOEM Information Collection Clearance Officer, Anna Atkinson, Bureau of Ocean Energy Management, 45600 Woodland Road, Sterling, Virginia 20166; or by email to anna.atkinson@boem.gov. Please reference Office of Management and Budget (OMB) Control Number 1010-0106 in the subject line of your comments.

FOR FURTHER INFORMATION CONTACT: To request additional information about this ICR, contact Anna Atkinson by email, or by telephone at 703-787-1025. You may also view the ICR at http://www.reginfo.gov/public/do/PRAMain.

SUPPLEMENTARY INFORMATION: In accordance with the Paperwork Reduction Act of 1995, BOEM provides the general public and other Federal agencies with an opportunity to comment on new, proposed, revised, and continuing collections of information. This helps BOEM assess the impact of the information collection requirements and minimize the public's reporting burden. It also helps the public understand BOEM's information collection requirements and provide the requested data in the desired format.

A Federal Register notice with a 60-day public comment period soliciting comments on this proposed information collection request was published on August 23, 2019 (84 FR 44328). No comments were received.

BOEM is again soliciting comments on the proposed ICR that is described below. BOEM is especially interested in public comment addressing the following issues: (1) Is the collection necessary to the proper functions of BOEM; (2) what can BOEM do to ensure this information will be processed and used in a timely manner; (3) is the estimate of burden accurate; (4) how might BOEM enhance the quality, utility, and clarity of the information to be collected; and (5) how might BOEM minimize the burden of this collection on the respondents, including minimizing the burden through the use of information technology?

Comments that you submit in response to this notice are a matter of public record. BOEM will include or summarize each comment in its request to the Office of Management and Budget (OMB) for approval of this ICR. You should be aware that your entire comment—including your address, phone number, email address, or other personal identifying information—may be made publicly available at any time. In order for BOEM to withhold from disclosure your personally identifiable information, you must identify any information contained in the submittal of your comments that, if released, would clearly constitute an unwarranted invasion of your personal privacy. You must also briefly describe any possible harmful consequences of the disclosure of your information, such as embarrassment, injury, or other harm. While you can ask BOEM in your comment to withhold your personally identifiable information from public review, BOEM cannot guarantee that it will be able to do so.

BOEM protects proprietary information in accordance with the Freedom of Information Act (5 U.S.C. 552) and the Department of the Interior's implementing regulations (43 CFR part 2), and under regulations at 30 CFR parts 550 and 552 promulgated pursuant to the Outer Continental Shelf Lands Act (OCSLA) at 43 U.S.C. 1352(c).

Abstract: This information collection request concerns the paperwork requirements in the regulations in 30 CFR part 553, Oil Spill Financial Responsibility for Offshore Facilities, including any supplementary notices to lessees and operators that provide clarification, description, or explanation of these regulations; and forms BOEM-1016 through 1023, and BOEM-1025.

BOEM uses forms to collect information to ensure proper and efficient administration of Oil Spill Financial Responsibility. BOEM collects information to:

• Provide a standard method for establishing eligibility for oil spill financial responsibility for offshore facilities;

• Identify and maintain a record of those offshore facilities that have a potential oil spill liability;

• Establish and maintain a continuous record of financial evidence accepted to assure payment of claims for oil spill cleanup and damages resulting from operations conducted on covered offshore facilities and the transportation of oil from covered offshore facilities;

• Establish and maintain a continuous record of responsible parties, as defined in Title I of the Oil Pollution Act of 1990, and their agents or Authorized Representatives for oil spill financial responsibility for covered offshore facilities; and

• Establish and maintain a continuous record of persons to contact and U.S. Agents for Service of Process for claims associated with oil spills from covered offshore facilities.

Title of Collection: 30 CFR 553, Oil Spill Financial Responsibility for Offshore Facilities.

OMB Control Number: 1010-0106.

Form Number:

• BOEM-1016, Designated Applicant Information Collection;

• BOEM-1017, Appointment of Designated Applicant;

• BOEM-1018, Self-Insurance Information;

• BOEM-1019, Insurance Certificate,

• BOEM-1020, Surety Bond;

• BOEM-1021, Covered Offshore Facilities;

• BOEM-1022, Covered Offshore Facility Changes;

• BOEM-1023, Financial Guarantee; and

• BOEM-1025, Independent Designated Applicant Information Certification.

Type of Review: Renewal with revisions of a currently approved information collection.

Respondents/Affected Public: Holders of leases, permits, right-of-way grants, and right-of-use and easement grants in the OCS and in State coastal waters who are responsible parties and/or who will appoint designated applicants. Other respondents may be the designated applicants' insurance agents and brokers, bonding companies, and guarantors. Some respondents may also be claimants.

Total Estimated Number of Annual Responses: 1,823 responses.

Total Estimated Number of Annual Burden Hours: 22,133 hours.

Respondent's Obligation: Mandatory.

Frequency of Collection: On occasion or annual.

Total Estimated Annual Non-hour Burden Cost: None.

Estimated Reporting and Recordkeeping Hour Burden: The current annual burden hours for this collection are 22,132 hours. BOEM proposes to increase the annual burden hours to 22,133 hours to account for a requirement under 30 CFR 553.62 not previously counted. BOEM, under 30 CFR 553.62, requires the designated applicant to notify their guarantors and responsible parties within 15 calendar days of receiving a claim for removal costs and damages. BOEMs plans to add one annual burden hour under 30 CFR 553.62 to account for the burden. The burden was not previously counted in this OMB control number, because it was thought to overlap with the U.S. Coast Guard's requirements.

An agency may not conduct or sponsor, and a person is not required to respond to, a collection of information unless it displays a currently valid OMB control number.

Authority: The authority for this action is the Paperwork Reduction Act of 1995 (44 U.S.C. 3501 et seq.).

Deanna Meyer-Pietruszka,
Chief, Office of Policy, Regulations, and Analysis.

[FR Doc. 2019-25409 Filed 11-21-19; 8:45 am]

BILLING CODE 4310-MR-P